DEPARTMENT OF AGRICULTURE

Agricultural Marketing Service

7 CFR Part 1220

[No. LS-00-01]

Results of Soybean Request for Referendum

AGENCY: Agricultural Marketing Service, USDA.

ACTION: Notice of referendum results.

SUMMARY: The Agricultural Marketing Service's (AMS) Request for Referendum shows that too few soybean producers want a referendum on the Soybean Promotion and Research Order (Order) for one to be conducted. The Request for Referendum was held from October 20, 1999, through November 16, 1999, at the Department of Agriculture's (USDA) county Farm Service Agency (FSA) offices. To trigger a referendum 60,082 soybean producers must complete a Request for Referendum. The number of soybean producers requesting a referendum was 17,970.

FOR FURTHER INFORMATION CONTACT: Ralph L. Tapp, Chief; Marketing Programs Branch; Livestock and Seed Program, AMS, USDA; STOP-0251; 14th and Independence Avenue, SW.; Washington, D.C. 20250-0251. Telephone number 202/720-1115.

SUPPLEMENTARY INFORMATION: Pursuant to the Soybean Promotion, Research, and Consumer Information Act (Act)(7 U.S.C. 6301 et seq.), every 5 years the Secretary of Agriculture (Secretary) will give soybean producers the opportunity to request a referendum on the Order. If the Secretary determines that at least 10 percent of U.S. producers engaged in growing soybeans (not in excess of one-fifth of which may be producers in any one State) support the conduct of a referendum, the Secretary must conduct a referendum within 1 year of that determination. If these requirements are not met, a referendum would not be conducted.

A notice of opportunity to Request a Soybean Referendum was publicized in the Federal Register on September 13, 1999, at 64 FR 49349. Soybean producers who produced soybeans during the representative period between January 1, 1997, and November 16, 1999, were eligible to participate in the Request for Referendum.

According to USDA's soybean producer survey, there are 600,813 soybean producers in the United States (see 64 FR 45413).

A total of 17,970 valid Requests for Referendum were completed by eligible soybean producers. This number does not meet the requisite number of 60,082. Therefore, based on the Request for Referendum results, a referendum will not be conducted. In accordance with the provisions of the Act, soybean producers would be provided another opportunity to request a referendum in 5 years.

The following is the State-by-State results of the Request for Referendum:

State | Number of valid requests for referendum
Alabama | 9
Alaska | 0
Arizona | 2
Arkansas | 90
California | 0
Colorado | 1
Connecticut | 0
Delaware | 0
Florida | 13
Georgia | 9
Hawaii | 0
Idaho | 0
Illinois | 5,851
Indiana | 1,926
Iowa | 3,932
Kansas | 438
Kentucky | 177
Louisiana | 44
Maine | 0
Maryland | 119
Massachusetts | 0
Michigan | 408
Minnesota | 991
Mississippi | 66
Missouri | 1,019
Montana | 0
Nebraska | 500
Nevada | 0
New Hampshire | 0
New Jersey | 11
New Mexico | 0
New York | 35
North Carolina | 28
North Dakota | 41
Ohio | 1,449
Oklahoma | 17
Oregon | 1
Pennsylvania | 61
Puerto Rico | 0
Rhode Island | 0
South Carolina | 17
South Dakota | 409
Tennessee | 102
Texas | 51
Utah | 0
Vermont | 1
Virginia | 30
Washington | 0
West Virginia | 3
Wisconsin | 119
Wyoming | 0
Total | 17,970.

Authority: 7 U.S.C. 6301-6311.

Dated: May 9, 2000.
Barry L. Carpenter,
Deputy Administrator, Livestock and Seed Program.

[FR Doc. 00-12155 Filed 5-12-00; 8:45 am]

BILLING CODE 3410-02-P